DEPARTMENT OF HEALTH AND HUMAN SERVICES

National Institutes of Health

National Institutes of Diabetes and Digestive and Kidney Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Diabetes and Digestive and Kidney Diseases Special Emphasis Panel, Diabetes Endocrinology Research Center Applications Review.

Date: August 14, 2002.

Time: 8 a.m. to 6 p.m.

Agenda: To review and evaluate grant applications.

Place: Bethesda Marriot, 5151 Pooks Hill Road, Bethesda, MD 20814.

Contact Person: Lakshmanan Sankaran, PhD., Scientific Review Administrator, Review Branch, DEA, NIDDK Room 754, 6707 Democracy Boulevard, National Institutes of Health, Bethesda, MD 20892-6600. (301) 594-7799.

Name of Committee: National Institute of Diabetes and Digestive and Kidney Diseases Special Emphasis Panel, Diabetes Research and Training Centers Grant Applications Review.

Date: August 15-16, 2002.

Time: 8 a.m. to 4 p.m.

Agenda: To review and evaluate grant applications.

Place: Bethesda Marriot, 5151 Pooks Hill Road, Bethesda, MD 20814.

Contact Person: Lakshmanan Sankaran, PhD., Scientific Review Administrator, Review Branch, DEA, NIDDK Room 754, 6707 Democracy Boulevard, National Institutes of Health, Bethesda, MD 20892-6600. (301) 594-7799.

Name of Committee: National Institute of Diabetes and Digestive and Kidney Diseases Special Emphasis Panel, and Training Programs in Diabetes Research.

Date: August 15, 2002.

Time: 8 p.m. to 3 p.m.

Agenda: To review and evaluate grant applications.

Place: NIDDK Review Branch, 2 Democracy Plaza, 6707 Democracy Blvd., Suite 755, Bethesda, MD 20792, (Telephone Conference Call).

Contact Person: Michael W. Edwards, Scientific Review Administrator, Review Branch, DEA, NIDDK Room 751, 6707 Democracy Boulevard, National Institutes of Health, Bethesda, MD 20892. (301) 594-8886.

(Catalogue of Federal Domestic Assistance Program Nos. 93.847, Diabetes, Endocrinology and Metabolic Research; 93.848, Digestive Diseases and Nutrition Research; 93.849, Kidney Diseases, Urology and Hematology Research, National Institutes of Health, HHS)
Dated: July 17, 2002.
LaVerne Y. Stringfield,
Director, Office of Federal Advisory Committee Policy.

[FR Doc. 02-18810 Filed 7-24-02; 8:45 am]

BILLING CODE 4140-01-M